DEPARTMENT OF AGRICULTURE

Food Safety and Inspection Service

9 CFR Parts 320 and 381

[Docket No. 01-034N]

Need To Complete New Registration Form and Importance of Compliance With Recordkeeping and Registration Requirements Under the Federal Meat and Poultry Products Inspection Regulations

AGENCY: Food Safety and Inspection Service, USDA.

ACTION: Policy statement and request for comments.

SUMMARY: Since 1970, FSIS has required registration by: Meat brokers; poultry products brokers; renderers; animal food manufacturers; wholesalers; warehousemen; and persons that engage in the business of buying, selling, transporting in commerce, or importing, any dead, dying, disabled, or diseased livestock (that is, cattle, sheep, swine, goats, horses, mules, or other equines) or poultry, or parts of the carcasses of livestock or poultry that have died otherwise than by slaughter. Also since 1970, FSIS has required these parties, all official establishments, and carriers and importers of poultry or livestock carcasses or parts or products of poultry or livestock carcasses to keep business records and to make such records available to FSIS employees upon request. Registration information and business records are critical in any FSIS investigation related to public health, food safety, or misbranding of meat or poultry products. For example, should Bovine Spongiform Encephalopathy (BSE), a neurogenetive disease in cattle, be introduced in the United States, registration information and business records will be crucial in tracing the source of BSE and in preventing its spread. FSIS intends to increase its enforcement of the registration and recordkeeping requirements to ensure that all businesses subject to the Federal Meat Inspection Act and Federal Poultry Products Inspection Act that are required to be registered with FSIS and/or to maintain business records are properly doing so.

In this notice, FSIS is also informing the public that the Agency has developed a new registration form. Because this form requires that registrants provide certain information that was not required on the previous form, all parties required to register, including those that are currently registered, must complete the new form and submit it to FSIS. Parties must submit the new registration form to FSIS by March 22, 2004.

DATES: Comments may be submitted by August 25, 2003. The new registration form will be available by December 22, 2003. All parties required to register with FSIS, including those currently registered, must complete the new registration form and submit it to FSIS by March 22, 2004.

ADDRESSES: Submit one original and two copies of written comments to FSIS Docket Clerk, Docket No. 01-034N, U.S. Department of Agriculture, Food Safety and Inspection Service, Room 102, Cotton Annex, 300 12th Street, SW., Washington, DC 20250-3700. All comments submitted in response to this document will be available for public inspection in the Docket Clerk's office between 8:30 a.m. and 4:30 p.m., Monday through Friday. When the new registration form becomes available, parties can access the form over the Internet at: http://www.fsis.usda.gov/fsisforms/. To obtain a copy of the new registration form, parties may also write to USDA, FSIS, Program Evaluation, Enforcement and Review (PEER), Evaluation and Enforcement Division (EED), 300 West End Court Building, 1255 22nd Street NW., Room 300, Washington, DC 20250-3700.

FOR FURTHER INFORMATION CONTACT: Dr. Arshad Hussain, Division Director, Data Analysis and Statistical Support Staff, Food Safety and Inspection Service, U.S. Department of Agriculture (202) 720-3219.

SUPPLEMENTARY INFORMATION:

Recordkeeping Requirements

In 1967, the Federal Meat Inspection Act (FMIA) was amended to add section 202 (21 U.S.C. 642), which requires that certain parties keep records that fully and correctly disclose all transactions involved in their businesses related to cattle, sheep, swine, goats, horses, mules, or other equines, their carcasses, parts or products of such animal carcasses for use as human or animal food. Similarly, in 1968, the Poultry Products Inspection Act (PPIA) was amended, including section 11(b) (21 U.S.C. 460(b)), which requires that certain parties keep such records as are properly necessary for the effective enforcement of the PPIA, in order to protect the American consumer against adulterated or misbranded poultry and poultry products. These provisions of the FMIA and PPIA require that the following parties keep business records: Any persons, firms, or corporations that engage in the business of slaughtering any livestock (as enumerated above) or poultry, or preparing or processing, freezing, packaging, or labeling any carcasses, or parts or products of carcasses, of any such animals, for use as human food or animal food; any persons, firms, or corporations that engage in the business of buying or selling (as meat brokers or poultry products brokers, wholesalers, or otherwise), or transporting, or storing, or importing any livestock or poultry carcasses or parts or products of these carcasses; and any persons, firms, or corporations that engage in business as renderers, or engage in the business of buying, selling, or transporting, or importing any dead, dying, disabled, or diseased (referred to as 4-D) livestock or poultry or parts of the carcasses of such livestock or poultry that have died otherwise than by slaughter.

In addition, those sections of the FMIA and PPIA require that, at all reasonable times, upon notice by a duly authorized representative of the Secretary of Agriculture (for example, an FSIS employee), these parties must afford the USDA representative access to their places of business and the opportunity to examine the facilities, inventory, and records and to copy all their records.

Section 11(b) of the PPIA further requires that the businesses listed above which are subject to it retain such records for the period of time prescribed by the poultry products inspection regulations, not to exceed two years, unless otherwise directed by Secretary of Agriculture for good cause shown. Similarly, section 202 of the FMIA provides that required records must be maintained for the period of time prescribed by the meat inspection regulations.

Regulations implementing these recordkeeping requirements were first published in 1970. The current regulations (9 CFR 320.1(b) and 381.175(b)) list the types of records, including, among other records, the bills of sale, invoices, bills of lading, and receiving and shipping papers, that must be maintained; the types of transactions for which records must be maintained, including purchasing, selling, shipping, receiving, transporting, or otherwise handling any livestock, livestock carcass or part thereof, meat or meat food product, poultry, or poultry carcass or part or product thereof; and the information about the transaction that the records must include.

Consistent with the provisions of the FMIA and the PPIA, §§ 320.4 and 381.178 of the FSIS' regulations provide that, upon presentation of official credentials by an FSIS employee (or any authorized USDA representative) during ordinary business hours, businesses that are required to maintain records must permit the FSIS employee to enter their place of business and examine and copy the records that are required to be kept pursuant to these regulations.

Under sections 320.3 and 381.177 of the regulations, records required to be kept must be retained for at least two years after December 31 of the year in which the transaction to which they relate occurred. The regulations also require that records be retained for longer periods if the Administrator of FSIS requires their retention for purposes of any investigation or litigation under the FMIA or PPIA. In these situations, the Administrator is to provide written notice of a longer retention period to the person required to keep these records.

Sections 320.2 and 381.176 of the regulations require that the parties that are required to maintain the records at the place they conduct business that is subject to the FMIA or PPIA, unless they conduct their business in multiple locations. If they conduct their business in multiple locations, businesses can maintain their records at their headquarters' office. When records are not in use, the regulations require that they be kept in a safe place at the required location.

Section 11 (21 U.S.C. 1040) of the Egg Products Inspection Act requires that persons engaged in the business of transporting, shipping, or receiving any eggs or egg products in commerce or holding such articles so received, and all egg handlers, maintain records concerning their receipt, delivery, sale, movement, and disposition of all eggs and egg products handled by them. FSIS' implementing regulations are in 9 CFR 590.200. During its continuous inspection at official plants processing egg products, FSIS ensures that these plants comply with the recordkeeping requirements. FSIS is also responsible for enforcing the recordkeeping requirements for other businesses engaged in transporting, shipping, or receiving egg products in commerce or businesses engaged in holding these products. In this notice, FSIS is not focusing on egg products businesses because the recordkeeping requirements in the egg products inspection regulations are different from those in the meat and poultry products inspection regulations. In addition, unlike certain businesses subject to the FMIA and PPIA, egg products businesses are not required to register with FSIS. Furthermore, FSIS is developing a proposed rule on shell eggs and egg products that will specifically address recordkeeping requirements.

Congress passed the Public Health Security and Bioterrorism Preparedness and Response Act of 2002 (“the Bioterrorism Act”) (Pub. L. 107-188), which was signed into law on June 12, 2002. The Bioterrorism Act provides that the Secretary of Health and Human Services (HHS) may require the establishment and maintenance of records by persons who manufacture, process, pack, transport, distribute, receive hold, or import food for human or animal consumption in the United States. On May 9, 2003, the Food and Drug Administration (FDA) proposed regulations that would implement these recordkeeping requirements (68 FR 25188). The recordkeeping requirements that will apply under the Bioterrorism Act will not affect the recordkeeping requirements in FSIS” regulations. Therefore, even after the Bioterrorism Act's recordkeeping requirements take effect, the recordkeeping requirements in FSIS” regulations will continue to apply to the parties listed above.

Registration Requirements

The FMIA and PPIA were also amended in 1967 and 1968, respectively, to add sections 203 (21 U.S.C. 643) and 11(c) (21 U.S.C. 460(c)). These provisions prohibit any person, firm, or corporation from engaging in commerce as a meat or poultry products broker, renderer, animal food manufacturer, wholesaler, or public warehouseman, or from buying, selling, or transporting, or importing any dead, dying, disabled or diseased livestock or poultry or parts of the carcasses of livestock or poultry that died otherwise than by slaughter unless they have registered their business as required by the regulations.

Regulations implementing registration requirements were first published in 1970. Sections 320.5 and 381.179 of the current regulations require that the parties listed in the preceding paragraph register with FSIS, unless these parties conduct business only at an official establishment where meat or poultry inspection is maintained.

According to the regulations, parties required to register with FSIS must do so by filing out a form and must provide current and correct information to FSIS, including their name, the address of all locations at which they conduct the businesses that require them to register, and all trade or business names under which they conduct these businesses.

FSIS has developed a new registration form. In addition to requiring the name and addresses of locations at which registrants conduct business, the form requires that parties disclose the form of their organization (e.g., individually owned or partnership), the nature of their business (e.g., meat or meat products or poultry or poultry products), and the type of business they are engaged in (e.g., domestic broker, import broker, warehouseman, etc). The form also requires that registrants provide their phone number and e-mail address and the hours of operation of any of their subsidiaries, branches, or divisions that conduct the businesses that require them to register. According to the regulations, parties required to register with FSIS must do so within 90 days after they begin to engage in any of the businesses that require them to register.

FSIS' new registration form will be available for use by December 22, 2003. Because this form requires that registrants provide certain information that was not required on the previous form, including e-mail address, phone number, and subsidiaries” hours of operation, all parties required to register, including those that are currently registered, must complete the new form and submit it to FSIS. Parties must submit the form to FSIS by March 22, 2004.

The registration form can be obtained over the Internet at: http://www.fsis.usda.gov/fsisforms/. To obtain the form, parties can also write to USDA, FSIS, Program Evaluation, Enforcement and Review (PEER), Evaluation and Enforcement Division (EED), 300 West End Court Building, 1255 22nd Street, NW., Room 300, Washington, DC 20250-3700. The FSIS regulations provide a different mailing address for obtaining the registration form, and state that the registration form can be obtained from “Compliance Programs, Regulatory Programs” (§§ 320.5(a) and 381.179(a)). FSIS intends to update this information in a future rule. The form will also be available from FSIS personnel that visit businesses required to register. Once parties complete the form, they should mail it to USDA, FSIS, Program Evaluation, Enforcement and Review (PEER), Evaluation and Enforcement Division (EED), 300 West End Court Building, 1255 22nd Street, NW., Room 300, Washington, DC 20250-3700 (the same address as for obtaining forms) or fax it to Director, Evaluation and Enforcement Division (EED) at (202) 418-8941.

The regulations require that, whenever any change is made in the registrant's name, business address, or any trade or business name under which it conducts its business, the registrant must report such change in writing to the Administrator within 15 days after making the change.

The Bioterrorism Act includes a provision that requires the Secretary of HHS to develop regulations mandating domestic and foreign facilities that manufacture, process, pack or hold food for human or animal consumption in the United States to register with the FDA by December 12, 2003. On February 3, 2003, FDA proposed regulations that would implement these registration requirements (68 FR 5378). The registration requirements that will apply under the Bioterrorism Act will not replace the registration requirements in FSIS' regulations. Therefore, even after the Bioterrorism Act's registration requirements take effect, the registration requirements in FSIS' regulations will continue to apply to the parties listed above.

Bovine Spongiform Encephalopathy

Bovine Spongiform Encephalopathy (BSE), commonly referred to as “Mad Cow Disease,” is a slowly progressive degenerative disease that affects the central nervous system (CNS) of adult cattle. BSE belongs to the family of diseases known as the transmissible spongiform encephalopathies (TSEs). Other TSEs include scrapie in sheep and goats, transmissible mink encephalopathy, feline spongiform encephalopathy, chronic wasting disease (CWD) in deer and elk, and in humans, kuru, classic Creutzfeldt-Jakob Disease (CJD), Gerstmann-Straussler-Scheinker syndrome, fatal familial insomnia, and variant Creutzfeldt-Jakob Disease (vCJD).

The agent that causes BSE and other TSEs has yet to be fully characterized. There are three main theories on the nature of the BSE agent: (1) The agent is a virus with unusual characteristics; (2) the agent is a prion—an abnormal form of a normal protein known as cellular prion protein; and (3) the agent is a virino—an “incomplete” virus composed of nucleic acid protected by host proteins. The BSE agent is highly resistant to heat, ultraviolet light, ionizing radiation, and common disinfectants that normally inactivate viruses or bacteria. Scientific experts believe that prions most likely cause BSE and other TSEs.

BSE was first diagnosed in 1986 in the United Kingdom (U.K.) and since then has been confirmed in native-born cattle in many other European countries and several countries outside Europe. This animal disease is most likely spread by feeding the rendered parts of cattle infected with the BSE agent to other cattle in the form of meat and bone meal. No cases of BSE have been detected in the U.S. despite active surveillance for the disease since May 1990.

In 1996, a newly recognized form of the human disease CJD, called variant CJD (vCJD), was reported in 10 patients in the U.K. vCJD is a chronic, neurodegenerative disease that affects humans. Scientific and epidemiological studies have linked vCJD to exposure to BSE, probably through human consumption of beef products contaminated with the agent that causes BSE.

Until recently, vCJD had not been detected in the U.S. In April 2002, the Florida Department of Health and the Centers for Disease Control and Prevention (CDC) began investigating a likely case of vCJD in a citizen of the U.K. living in Florida. In October 2002, CDC reported the investigation of this case and stated that it represents the first probable vCJD case in a U.S. resident (CDC, Morbidity and Mortality Weekly Report, 51(41): 927-929, 2002). CDC believes, however, that the patient was exposed to the BSE agent while living in the U.K. This is likely to be the case, as the disease is thought to have a long incubation period and the appearance of symptoms does not mean that exposure was recent.

Surveillance data from European countries in which BSE has been detected indicate that cattle with clinical signs of a central nervous system (CNS) disorder, “dead” cattle (i.e., died otherwise than by slaughter), and cattle that cannot rise from a recumbent position (i.e., nonambulatory, cattle commonly referred to as “downer” cattle in the U.S.), have a greater incidence of having BSE than other cattle. The FSIS regulations prohibit for use as human food cattle with clinical signs of a CNS disorder or certain infectious or parasitic diseases, or that are in a dying condition or that died otherwise than by slaughter (§§ 309.3, 309.4). All seriously crippled cattle and cattle commonly termed “downers” presented for slaughter are automatically suspected of being affected with a disease or condition that may require condemnation of the animal, in whole or in part, and are identified as “U.S. Suspects” (§ 309.2(b)). Such cattle are examined at ante-mortem inspection by an FSIS veterinarian, and a record of the veterinarian's clinical findings accompanies the carcass to post-mortem inspection if the animal is not condemned on ante-mortem inspection. Post-mortem inspections on the carcasses of U.S. Suspects cattle are performed by a veterinarian rather than a food inspector, and the results of this inspection are recorded. U.S. Suspects, unless otherwise released pursuant to § 309.2(p), must be set apart and slaughtered separately (§ 309.2(n)). If, on post-mortem inspection, the meat and meat food products from such cattle are found to be otherwise not adulterated, such products may be used for human food (§ 311.1).

Surveillance for BSE in Europe has shown that the typical clinical signs associated with BSE cannot always be observed in nonambulatory (downer) cattle infected with BSE because the signs of BSE often cannot be differentiated from the typical clinical signs of the many other diseases and conditions affecting downer cattle. Thus, if BSE were present in the U.S., it is possible that downer cattle infected with BSE could be presented for slaughter, and, if the clinical signs of the disease were not obvious, pass ante-mortem inspection. These cattle could then be slaughtered, and, if they pass post-mortem inspection, the meat and meat food products from such cattle could be used for human food. However, the BSE agent has not been detected in muscle tissue of infected cattle. Tissues that have been found to contain high levels of the agent that causes BSE in BSE-infected cattle—such as the brain tissue, the spinal cord, and the retina of the eye—could possibly cross-contaminate muscle tissues with the BSE agent during slaughter and processing.

The U.S. government has implemented a number of measures to prevent BSE from entering the U.S. and to prevent the spread of the disease should it be introduced in the U.S. For example, since 1989, the USDA's Animal and Plant Health Inspection Service (APHIS) has prohibited the importation of live cattle and certain cattle products, including rendered protein products, from countries where BSE is known to exist. In 1997, because of concerns about widespread risk factors and inadequate surveillance for BSE in many European countries, these importation restrictions were extended to include all of the countries in Europe. On December 7, 2000, APHIS prohibited all imports of rendered animal protein products, regardless of species, from BSE-restricted countries because of concern that feed intended for cattle may have been cross-contaminated with the BSE agent.

In addition, APHIS leads an ongoing, comprehensive, interagency surveillance system for BSE in the U.S. and, in cooperation with FSIS, has drafted an emergency response plan to be used in the event that BSE is identified in the U.S. Other Federal agencies also have contingency plans that work in concert with the USDA plan.

In 1997, the Food and Drug Administration (FDA) prohibited the use of most mammalian protein in the manufacture of animal feeds given to cattle and other ruminants (21 CFR 589.2000). Firms must keep specified records on the manufacture of their feed, must have processes in place to prohibit co-mingling of ruminant feed with non-ruminant feed, which may contain materials prohibited in ruminant feed, and must ensure that non-ruminant feed containing materials prohibited in ruminant feed is labeled conspicuously with the statement, “Do not feed to cattle and other ruminants.” These regulations are intended to prevent the introduction and spread of BSE in U.S. cattle through feed contaminated with the BSE agent.

In addition, the CDC monitors the incidence of CJD in the U.S. by analyzing death certificate information from multiple-cause-of-death data compiled by the National Center for Health Statistics. This information is also used to search for possible cases of vCJD in the U.S.

In 1998, USDA entered into a cooperative agreement with Harvard University's School of Public Health to conduct an analysis and evaluation of the current measures implemented by the U.S. government to prevent the entry and spread of BSE in U.S. cattle herds and to reduce the potential for exposure of Americans to the BSE agent. The Harvard study identifies three pathways or practices that could contribute the most to the spread of BSE and the amount of potentially dangerous tissue in the human food supply: (1) Noncompliance with the FDA feed ban, including misfeeding on the farm and the mislabeling of feed and feed products prohibited for consumption by cattle; (2) unsafe disposition of cattle that die on the farm; and (3) inclusion of high-risk tissue, such as brain and spinal cord, in edible products. With regard to the second pathway listed, a potential use for cattle that die on the farm otherwise than by slaughter would be for rendering as non-ruminant animal feed since rendered product from animals that die otherwise than by slaughter is prohibited for use as human food but may be used to produce animal feed.

On January 17, 2002, FSIS announced the availability of a paper on its current thinking on possible actions to minimize human exposure to meat products from cattle that could contain the infective agent that causes BSE (67 FR 2399). This paper is available on the FSIS web site at http://www.fsis.usda.gov/oa/topics/BSE_Thinking.pdf and http://www.fsis.usda.gov/oa/topics/BSE_thinking.htm.

In this paper, FSIS stated that it planned to increase its enforcement of recordkeeping and registration requirements for renderers and persons who engage in the business of buying, selling, and transporting 4-D livestock or parts of the carcasses of any such livestock that died otherwise than by slaughter. In considering measures to minimize human exposure to bovine tissue and products that could contain the agent that causes BSE, FSIS determined that registration information and records from renderers and persons who engage in the business of buying, selling, and transporting 4-D livestock, or parts of the carcasses of any such livestock that died otherwise than by slaughter, would support FDA in enforcing its regulations that prohibit most mammalian protein in ruminant feed.

Parts of carcasses of 4-D livestock are often used in rendering. Renderers produce meat and bonemeal and similar products used in livestock and poultry feed. If any ruminant feed is suspected of containing mammalian protein, FSIS will need and will be able to obtain registration information from the renderers that supplied rendered ruminant product to the animal feed manufacturers and from the producers or businesses that supplied the renderers with 4-D livestock or parts of carcasses of 4-D livestock. FSIS will also require and will have access to their related business records. FSIS will work collaboratively with FDA to locate these producers and businesses and obtain their records.

Should BSE be introduced into the United States, registration information and business records will be crucial in quickly determining and tracking the source of BSE so as to prevent its spread. Registration information and business records would be crucial in tracking transactions involving cattle that are suspected of being, or confirmed to be, infected with BSE and carcasses and products that are suspected of being, or confirmed to be, contaminated with the agent that causes BSE.

FSIS is reminding businesses subject to the PPIA that are required to register or maintain records that they must do so because the registration and recordkeeping requirements in the poultry products inspection regulations are almost identical to those in the meat inspection regulations. Also, FSIS needs to make sure that its information on registrants is accurate, complete, and current. Therefore, it is important that all businesses required to register under the FMIA or PPIA do so and keep their registrations current. As stated above, in this notice, FSIS is not focusing on egg products businesses because the recordkeeping requirements in the egg products inspection regulations are different from those in the meat and poultry products inspection regulations, because egg products businesses are not required to register with FSIS, and because FSIS is developing a proposed rule on shell eggs and egg products that will address recordkeeping requirements.

Failure To Register or Maintain Records

As FSIS previously stated in its BSE current thinking paper, FSIS intends to increase enforcement of the registration and recordkeeping requirements discussed above. If FSIS determines that a party required to register, or a party required to maintain records, has not done so, FSIS program employees will first remind the party to register immediately or to maintain current and accurate records. If the party continues to violate the registration or recordkeeping requirements, FSIS will then issue a letter of warning. If any party continues to violate the registration or recordkeeping requirements after receiving a letter of warning, FSIS will consider pursuing criminal or other legal action against the violating party.

For violations of the statute such as failure to register with FSIS or to maintain required records, section 406(a) of the FMIA (21 U.S.C. 676(a)) provides that the penalties may be imprisonment for not more than one year, or a fine of not more than $1,000, or both such imprisonment and fine. The PPIA provides that the same penalties may be imposed for certain violations of the statute, including violation of registration and recordkeeping requirements (21 U.S.C. 461(a)). In addition, both statutes provide that if such violations involve intent to defraud, or any distribution or attempted distribution of an article that is adulterated (except when the product is adulterated for certain reasons, mostly concerning product quality), the penalty can be imprisonment for not more than three years or a fine of not more than $10,000, or both.

Section 406(a) of the FMIA (21 U.S.C. 676(a)) also provides that persons, firms, or corporations would not be subject to the above penalties for receiving for transportation any article or animal in violation of the FMIA, if the receipt was made in good faith, unless the person, firm, or corporation refuses to furnish at the request of an FSIS employee the name and address of the person from whom it received such article or animal and copies of any documents pertaining to the delivery of the article or animal to them. Similarly, section 12(b) of the PPIA (21 U.S.C. 461(b)) provides that carriers are not subject to penalties under the PPIA (except for violations of regulations concerning the buying, selling, or transporting of poultry carcasses or parts or products of poultry that are not intended for use as human food) for receiving, carrying, holding or delivering poultry or poultry products owned by another person, in carriers' usual course of business, unless they have knowledge or are in possession of facts that would indicate that the poultry or poultry products were not inspected or marked in accordance with the provisions of the PPIA or were otherwise not eligible for transportation under the PPIA. Carriers are liable, however, if they refuse to furnish at the request of an FSIS employee the name and address of the person from whom they received such poultry or poultry products, and copies of any documents pertaining to the delivery of the poultry or poultry products. These statutory provisions emphasize the importance of carriers' maintaining records of business transactions subject to the FMIA and PPIA and making these records available to FSIS employees.

Under section 404 of the FMIA (21 U.S.C. 674) and section 21 of the PPIA (21 U.S.C. 467c), the United States district courts, the District Court of Guam, the District Court of the Virgin Islands, the highest court of American Samoa, and the United States courts of the other Territories, are vested with jurisdiction specifically to enforce, and to prevent and restrain violations of, the FMIA and PPIA (including violations of the registration and recordkeeping requirements).

Paperwork Reduction Act

Title: Registration requirements under the FMIA and PPIA.

Type of Collection: New.

Abstract: FSIS has developed a new registration form and has reviewed the paperwork and recordkeeping requirements associated with this form in accordance with the Paperwork Reduction Act. Existing regulations require that certain parties register with FSIS. See “respondents” below for a list of the parties required to register.

According to the regulations, parties required to register with FSIS must do so by filing a form and must provide current and correct information to FSIS, including their name, the address of all locations at which they conduct the businesses that require them to register, and all trade or business names under which they conduct these businesses. These parties must register with FSIS within 90 days after they begin to engage in any of the businesses that require them to register. Because FSIS has developed a new registration form that requires that registrants disclose certain information that was not required on the previous form, all parties required to register with FSIS, including those currently registered, must complete the new form and submit it to FSIS.

Estimate of burden: FSIS estimates that completing the form will take an average of 10 minutes.

Respondents: Meat brokers; poultry products brokers; renderers; animal food manufacturers; wholesalers; warehousemen; and persons that engage in the business of buying, selling, transporting in commerce, or importing, any dead, dying, disabled, or diseased livestock or poultry, or parts of the carcasses of livestock or poultry that have died otherwise than by slaughter.

Estimated number of respondents: 9125 per year.

Estimated number of responses per respondent: 1.

Estimated total annual burden on respondents: 1,521 hours.

Copies of this information collection assessment can be obtained from John OConnell, Paperwork Reduction Act Coordinator, Food Safety and Inspection Service, USDA, 112 Annex, 300 12th St., Washington, DC 20250.

Comments are invited on: (a) Whether the proposed collection of information is necessary for the proper performance of the functions of the Agency, including whether the information will have practical utility; (b) the accuracy of the Agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

Comments may be sent to John O'Connell, see address above, and the Desk Officer for Agriculture, Office of Information and Regulatory Affairs, Office of Management and Budget, Washington, DC 20253. Comments are requested by August 25, 2003. To be most effective, comments should be sent to OMB within 30 days of the publication date.

Additional Public Notification

Public awareness of all segments of rulemaking and policy development is important. Consequently, in an effort to ensure that minorities, women, and persons with disabilities are aware of this notice, FSIS will announce it and make copies of this Federal Register publication available in the FSIS Constituent Update, which is communicated via Listserv, a free e-mail subscription service. In addition, the update is available on-line through the FSIS web page located at http://www.fsis.usda.gov. The update is used to provide information regarding FSIS policies, procedures, regulations, Federal Register notices, FSIS public meetings, recalls, and any other types of information that could affect or would be of interest to our constituents and stakeholders. The constituent Listserv consists of industry, trade, and farm groups, consumer interest groups, allied health professionals, scientific professionals, and other individuals who have requested to be included. Through the Listserv and web page, FSIS is able to provide information to a much broader, more diverse audience.

For more information, contact the Congressional and Public Affairs Office at (202) 720-9113. To be added to the free e-mail subscription service (Listserv), go to the “Constituent Update” page on the FSIS web site at http://www.fsis.usda.gov/oa/update/update.htm. Click on the “Subscribe to the Constituent Update Listserv” link, then fill out and submit the form.

Done in Washington, DC, on June 17, 2003.
Garry L. McKee,
Administrator.

[FR Doc. 03-15741 Filed 6-24-03; 8:45 am]

BILLING CODE 3410-DM-P